DEPARTMENT OF HOMELAND SECURITY

Coast Guard

33 CFR Part 117

[Docket No. USCG-2011-0442]

Drawbridge Operation Regulation; Nanticoke River, Seaford, DE

AGENCY: Coast Guard, DHS.

ACTION: Notice of temporary deviation from regulations.

SUMMARY: The Commander, Fifth Coast Guard District, has issued a temporary deviation from the regulation governing the operation of the SR 13 Bridge across the Nanticoke River, mile 39.6, at Seaford, DE. The deviation is necessary to accommodate the cleaning and painting of the bridge. This deviation restricts the availability to open the bridge during the approximate seven week project.

DATES: This deviation is effective from 12:01 a.m. on June 10, 2011 to 11:59 p.m. on July 24, 2011.

ADDRESSES: Documents mentioned in this preamble as being available in the docket are part of docket USCG-2011-0442 and are available online by going to http://www.regulations.gov, inserting USCG-2011-0442 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Bridge Management Specialist, Coast Guard; telephone 757-398-6629, e-mail Lindsey.R.Middleton@uscg.mil. If you have questions on viewing the docket, call Renee V. Wright, Program Manager, Docket Operations, telephone 202-366-9826.

SUPPLEMENTARY INFORMATION: Marinis Bros. Inc., on behalf of Delaware Department of Transportation, has requested a temporary deviation from the current operating regulation of the SR 13 Bridge across the Nanticoke River, mile 39.6, at Seaford, DE. The requested deviation is to accommodate painting and cleaning of the bridge. The vertical clearance of this single-leaf bascule bridge is three feet at mean high water (MHW) in the closed position and unlimited in the open position. During this deviation period, the vertical clearance will be limited to one foot at MHW due to the scaffolding that will be used for the maintenance of the bridge. Monday through Friday from 7 a.m. until 6 p.m. the bridge is able to open if at least four hours of notice is given and from 6 p.m. to 7 a.m. the bridge will be left in the closed-to-navigation position. On Saturdays and Sundays and on July 4, 2011 the bridge will be left in the open position and vessels will be able to pass through at any time. The bridge will be able to open for emergencies if at least four hours of notice is given. There are no alternate routes available to vessels.

The current operating schedule for the bridge is set out in 33 CFR 117.243(b). In the months of June and July the regulation requires the bridge to open on signal, except from 6 p.m. to 8 a.m., if at least four hours notice is given.

Logs from June and July 2010 have shown that most of the openings were on the weekends and on July 4th and all of the openings were between the hours of 7 a.m. and 6 p.m. This deviation will have no impact for mariners traveling through the bridge on the weekends and on July 4th because the bridge will be left in the open position on these days. Mariners transiting through the bridge on weekdays should have minimal delay given that the bridge can open for vessels if at least four hours notice is given. The majority of the vessel traffic is recreational boaters. The Coast Guard will inform the users of the waterway through our Local and Broadcast Notices to Mariners so that mariners can arrange their transits to minimize any impact caused by the temporary deviation. The Coast Guard will also require the bridge owner to post signs on either side of the bridge notifying mariners of the temporary regulation change.

In accordance with 33 CFR 117.35(e), the drawbridge must return to its regular operating schedule immediately at the end of the designated time period. This deviation from the operating regulations is authorized under 33 CFR 117.35.

Dated: May 23, 2011.
Waverly W. Gregory, Jr.,
Bridge Program Manager, Fifth Coast Guard District.

[FR Doc. 2011-13643 Filed 6-1-11; 8:45 am]

BILLING CODE 9110-04-P